GENERAL SERVICES ADMINISTRATION

48 CFR Parts 538 and 552

[GSAR-TA-02; Docket No. 2014-0008; Sequence No. 1]

RIN 3090-AJ43

General Services Administration Acquisition Regulation (GSAR); Technical Amendments

AGENCY: General Services Administration (GSA).

ACTION: Final rule.

SUMMARY: The General Services Administration (GSA) is amending the General Services Administration Acquisition Regulation (GSAM) to make revisions made to GSAR Case 2010-G511—Federal Supply Schedules: Purchasing by Non-Federal Entities, which was published in the Federal Register on June 6, 2016.

DATES: Effective: July 6, 2016.

FOR FURTHER INFORMATION CONTACT: Ms. Dana Munson, General Services Acquisition Policy Division, at 202-357-9652, for clarification of content. For information pertaining to status or publication schedules, contact the Regulatory Secretariat Division (MVCB), 1800 F Street NW., Washington, DC 20405, 202-501-4755. Please cite GSAR-TA-02; Technical Amendments.

SUPPLEMENTARY INFORMATION: GSA published a document in the Federal Register at 81 FR 36425, on June 6, 2016 that was effective on July 6, 2016. Since these changes were published, further revisions were made to the affected regulations by a document posted in the Federal Register at 81 FR 41103 that was effective on June 23, 2016. Therefore, conforming changes are being made to correct 48 CFR parts 538 and 552.

List of Subjects in 48 CFR Parts 538 and 552

Government procurement.

Dated: June 29, 2016.
Jeffrey A. Koses,
Senior Procurement Executive, Office of Acquisition Policy, Office of Government-wide Policy.

Therefore, GSA amends 48 CFR parts 538 and 552 as set forth below:

1. The authority citation for 48 CFR parts 538 and 552 continues to read as follows:

Authority: 40 U.S.C. 121(c).

PART 538—FEDERAL SUPPLY SCHEDULE CONTRACTING

2. Amend section 538.273 by removing from paragraph (b)(1) “Alternate II” and adding “Alternate I” in its place; and revising paragraph (b)(2) to read as follows:

538.273 Contract clauses.

* * * * *

(b) * * *

(2) 552.238-75, Price Reductions. Use Alternate I for Federal Supply Schedules with Transactional Data Reporting requirements. This alternate clause is used when vendors agree to include clause 552.238-74 Alternate I in the contract.

* * * * *

PART 552—SOLICITATION PROVISIONS AND CONTRACT CLAUSES

552.238-75 [Amended]

3. Amend section 552.238-75 by—

a. Removing from paragraph (c)(2) “Government” and adding “eligible ordering activity” in its place;

b. Removing Alternate I; and

c. Redesignating Alternate II as Alternate I.

[FR Doc. 2016-15899 Filed 7-5-16; 8:45 am]

BILLING CODE 6920-14-P